PEACE CORPS

Information Collection Request Under OMB Review

AGENCY: Peace Corps.

ACTION: 60-Day notice and request for comments.

SUMMARY: The Peace Corps will be submitting the National Agency Check (NAC) Questionnaire for Peace Corps Volunteer Background Investigation (OMB Control Number 0420-0001) to the Office of Management and Budget (OMB) for review and clearance in accordance with the Paperwork Reduction Act of 1995. Notice of the information collection was previously published in the Federal Register on May 25, 2011, at 76 FR 12939, allowing for a 60-day public comment period. Peace Corps received 16 identical comments stating that “the Peace Corps must ensure that the proposed information collection activity screens out and excludes those individuals motivated exclusively (or near exclusively) to promote or participate in the harmful male genital mutilation known as circumcision.” As the NAC Questionnaire for Peace Corps Volunteer Background Investigation (OMB Control Number 0420-0001) requests only identifying information about Volunteer applicants in order to locate records pertaining to applicants' legal activities and legal suitability for Peace Corps Volunteer service. As those records are not likely to contain information concerning views about circumcision, it will not be possible to make such a judgment about applicants using this form.

The purpose of this notice is to allow an additional 30 days for public comments. Written comments and suggestions from the public and affected agencies should address one or more of the following four points: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology, e.g., permitting electronic submission of responses.

DATES: Submit comments on or before September 16, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov. Copies of available documents submitted to OMB may be obtained from Denora Miller.

SUPPLEMENTARY INFORMATION: The NAC Questionnaire for Peace Corps Volunteer Background Investigation Form is used to conduct a formal background check. The data gathered is used to conduct a National Agency Check through the Office of Personnel Management who has pertinent records pertaining to applicants' legal activities and suitability for Peace Corps Volunteer service.

Overview of Information Collection

OMB Control Number: 0420-0001.

Title: National Agency Check (NAC) Questionnaire for Peace Corps Volunteer Background Investigation.

Type of Information Collection: Extension, without change, of a currently approved collection.

Affected Public: Potential and current volunteers.

Respondents' Obligation To Reply: Voluntary.

Burden to the Public:

a. Number of Average Applicants—13,500.

b. Number of Applicants who submit NAC form—13,500.

c. Frequency of response—One time.

d. Completion time—15 minutes.

e. Annual burden hours—3,375.

Dated: August 11, 2011.
Earl W. Yates,
Associate Director, Management.

[FR Doc. 2011-20931 Filed 8-16-11; 8:45 am]

BILLING CODE 6051-01-P